DEPARTMENT OF ENERGY

Federal Energy Regulatory Commission

Notice of Application Tendered for Filing With the Commission

September 14, 2004.

Take notice that the following hydroelectric application has been filed with the Commission and is available for public inspection.

a. Type of Application: New License.

b. Project No.: 11841-002.

c. Date filed: September 10, 2004.

d. Applicant: Ketchikan Public Utilities.

e. Name of Project: Whitman Lake Hydroelectric Project.

f. Location: The Whitman Lake Hydroelectric Project would be located on Whitman Lake in Ketchikan Gateway Borough, Ketchikan, Alaska. The proposed project would affect approximately 158 acres of Federal lands, managed by the U.S. Forest Service and the U.S. Bureau of Land Management.

g. Filed Pursuant to: Federal Power Act 16 U.S.C. §§ 791(a)-825(r). [For 5-MW exemptions, use the following language instead: Public Utility Regulatory Policies Act of 1978, 16 U.S.C. §§ 2705, 2708.]

h. Applicant Contact: Mr. Don Thompson, WESCORP, 3035 Island Crest Way, Suite 200, Mercer Island, WA 98040; Telephone: (206) 275-1000.

i. FERC Contact: Kenneth Hogan at (202) 502-8434; e-mail: kenneth.hogan@ferc.gov.

j. Cooperating agencies: We are asking Federal, State, local, and tribal agencies with jurisdiction and/or special expertise with respect to environmental issues to cooperate with us in the preparation of the environmental document. Agencies who would like to request cooperating status should follow the instructions for filing comments described in item l below.

k. All documents (original and eight copies) should be filed with: Magalie R. Salas, Secretary, Federal Energy Regulatory Commission, 888 First Street, NE., Washington, DC 20426.

l. The Commission's Rules of Practice require all intervenors filing documents with the Commission to serve a copy of that document on each person on the official service list for the project. Further, if an intervenor files comments or documents with the Commission relating to the merits of an issue that may affect the responsibilities of a particular resource agency, they must also serve a copy of the document on that resource agency.

m. The application is not ready for environmental analysis at this time.

n. The proposed Whitman Lake Hydroelectric Project will have an installed generating capacity of 4.6 Megawatts with a maximum hydraulic capacity of 180 cubic feet per second (cfs). The proposed project would consist of the following features: (1) The existing 39-foot-high, 220-foot-long concrete gravity arch dam; (2) 40-foot-wide Ogee spillway within the dam; (3) a 148 surface acre reservoir (Whitman Lake); (4) a 2,450-foot-long, 45-inch-diameter steel penstock; (5) a 2,000-foot-long, 21-inch-diameter pipeline; (6) a turbine and 3,900 kW generator, with a hydraulic capacity of 150 cfs; (7) a turbine and 700 kW generator, with a hydraulic capacity of 30 cfs and (8) other appurtenant facilities.

Ketchikan Public Utilities (KPU) estimates that the average annual generation will be 16,225 megawatthours (MWh). KPU proposes to use the project to supplement, as well as displace, other generation resources owned and operated by KPU. With the construction and operation of the project, KPU hopes to minimize its use and dependency on fossil fuel generation.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Alaska State Historic Preservation Officer (SHPO), as required by § 106, National Historic Preservation Act, and the regulations of the Advisory Council on Historic Preservation, 36, CFR, at § 800.4.

q. Procedural schedule: The application will be processed according to the following Hydro Licensing Schedule. Revisions to the schedule will be made as appropriate.

Project Site Visit—October 2004.

Issue Deficiency Letter or Acceptance Letter—November 2004.

Request Additional Information—November 2004.

Issue Acceptance Letter—February 2005.

Notice of application ready for environmental analysis—March 2005.

Notice of the availability of the EA—August 2005.

Ready for Commission's decision on the application—September 2005.

Magalie R. Salas,
Secretary.

[FR Doc. E4-2252 Filed 9-17-04; 8:45 am]

BILLING CODE 6717-01-P